DEPARTMENT OF JUSTICE

Notice of Lodging of Proposed Consent Decree Under the Resource Conservation and Recovery Act

On January 12, 2017, the Department of Justice and the State of Louisiana on behalf of the Louisiana Department of Environmental Quality (“LDEQ”) filed a Complaint and lodged a proposed Consent Decree with the United States District Court for the Middle District of Louisiana in the matter of United States of America and Louisiana Department of Environmental Quality vs. Innophos, Inc., Civil Action No. 17-26-SDD-RLB (M.D. La.).

In the Complaint filed in this action, the United States and LDEQ sought injunctive relief and civil penalties against Innophos, Inc. (“Innophos”) for violations of the Resource Conservation and Recovery Act (“RCRA”), 42 U.S.C. 6901-6992k, at Innophos's purified phosphoric acid manufacturing facility near Geismar, Louisiana. The Complaint alleged that Innophos routinely generated two hazardous wastes, Raffinate and RP Pondwater, and sent them to an adjacent facility for disposal; the receiving facility was not authorized to dispose of hazardous waste. LDEQ is a co-plaintiff and has brought its own claims under state law.

The proposed Consent Decree memorializes that Innophos has already corrected the violations related to RP Pondwater. Innophos also agrees in the Consent Decree to handle Raffinate appropriately, either by disposing of it in a permitted hazardous waste Underground Injection Control well system, by treating it on-site, or by shipping it to a permitted hazardous waste treatment, storage, and disposal facility. The Consent Decree also provides that Innophos will pay a $1,398,000 civil penalty, half of which will be payable to the United States and half to LDEQ.

The publication of this notice opens a period for public comment on the Consent Decree. Comments should be addressed to the Assistant Attorney General, Environment and Natural Resources Division, and should refer to United States of America and Louisiana Department of Environmental Quality vs. Innophos, Inc.., D.J. Ref. No. 90-7-1-08688. All comments must be submitted no later than forty-five (45) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: https://www.usdoj.gov/enrd/consent-decrees. We will provide a paper copy of the Consent Decree upon written request and payment of reproduction costs. Please mail your request and payment to: Consent Decree Library, U.S. DOJ—ENRD, P.O. Box 7611, Washington, DC 20044-7611.

Please enclose a check or money order for $11.25 (25 cents per page reproduction cost) for the Consent Decree, payable to the United States Treasury.

Thomas P. Carroll,
Assistant Section Chief, Environmental Enforcement Section, Environment and Natural Resources Division.

[FR Doc. 2017-01348 Filed 1-19-17; 8:45 am]

BILLING CODE 4410-15-P